DEPARTMENT OF ENERGY

Federal Energy Regulatory Commission

[Project No. 13879-000]

Kahawai Power 2, LLC; Notice of Preliminary Permit Application Accepted for Filing and Soliciting Comments, Motions To Intervene, and Competing Applications

November 29, 2010.

On November 15, 2010, Kahawai Power 2, LLC filed an application for a preliminary permit, pursuant to section 4(f) of the Federal Power Act, proposing to study the feasibility of the Makaweli River Water Power Project, located in Kauai County, in the state of Hawaii. The sole purpose of a preliminary permit, if issued, is to grant the permit holder priority to file a license application during the permit term. A preliminary permit does not authorize the permit holder to perform any land disturbing activities or otherwise enter upon lands or waters owned by others without the owners' express permission.

The proposed project would consist of the following developments:

(1) A proposed 6-foot-high and 40-foot-long reinforced concrete weir and intake structure on the Kahana stream that will maintain a normal surface elevation of 2,200 feet msl; (2) a proposed 8-foot-high and 40-foot-long reinforced concrete weir and intake structure on the Mokuone stream that will maintain a normal surface elevation of 2,200 feet msl; (3) a new 31,000-foot-long, steel penstock; (4) a proposed 1.500-foot-long, 48-inch diameter, underground tunnel to convey water from the Mokuone Diversion to the Mokuone Feeder Penstock; (5) a new 1,750-foot-long, 36-inch diameter steel feeder penstock to collect additional flows from the Mokuone Diversion; (6) a proposed 70-foot-long, 40-foot-wide, reinforced concrete powerhouse; (7) a proposed 90-foot-long, 15-foot-wide tailrace; (8) an anticipated proposed transmission line approximately 4.25 miles in length and a voltage of 69kV; (9) a new gravel roadway approximately 1 mile in length; (10) a proposed average annual generation of 23,900 megawatt-hours.

Applicant Contact: Daniel Irvin, CEO, Free Flow Power Corporation, 33 Commercial Street, Gloucester, MA 01930; phone: (978) 252-7631.

FERC Contact: Mary Greene, 202-502-8865.

Deadline for filing comments, motions to intervene, competing applications (without notices of intent), or notices of intent to file competing applications: 60 days from the issuance of this notice. Comments, motions to intervene, notices of intent, and competing applications may be filed electronically via the Internet. See 18 CFR 385.2001(a)(1)(iii) and the instructions on the Commission's Web site (http://www.ferc.gov/docs-filing/ferconline.asp) under the “eFiling” link. For a simpler method of submitting text only comments, click on “Quick Comment.” For assistance, please contact FERC Online Support at FERCOnlineSupport@ferc.gov; call toll-free at (866) 208-3676; or, for TTY, contact (202) 502-8659. Although the Commission strongly encourages electronic filing, documents may also be paper-filed. To paper-file, mail an original and eight copies to: Kimberly D. Bose, Secretary, Federal Energy Regulatory Commission, 888 First Street, NE., Washington, DC 20426.

More information about this project, including a copy of the application, can be viewed or printed on the “eLibrary” link of Commission's Web site at http://www.ferc.gov/docs-filing/elibrary.asp. Enter the docket number (P-13879) in the docket number field to access the document. For assistance, contact FERC Online Support.

Kimberly D. Bose,
Secretary.

[FR Doc. 2010-30593 Filed 12-6-10; 8:45 am]

BILLING CODE 6717-01-P